Presidential Determination No. 2005-10 of December 8, 2004

Waiver of Restrictions on Providing Funds to the Palestinian Authority

Memorandum for the Secretary of State

Pursuant to the authority vested in me as President by the Constitution and laws of the United States, including section 552(b) of the Foreign Operations, Export Financing, and Related Programs Appropriations Act, 2004 (Div. D, Public Law 108-199) (the “Act”), as carried forward under Public Law 108-309, as amended, I hereby certify that it is important to the national security interests of the United States to waive the provisions of section 552(a) of the Act, as carried forward, in order to provide funds appropriated to carry out chapter 4 of part II of the Foreign Assistance Act of l961 to the Ministry of Finance of the Palestinian Authority for budget support.

You are authorized and directed to transmit this determination to the Congress, accompanied by a report in accordance with section 552(d) of the Act, and to publish the determination in the Federal Register.

B

THE WHITE HOUSE,

Washington, December 8, 2004.

[FR Doc. 04-28731

Filed 12-29-04; 8:45 am]

Billing code 4710-10-P